DEPARTMENT OF COMMERCE

National Oceanic and Atmospheric Administration

50 CFR Part 217

[Docket No. 180816767-9069-01]

RIN 0648-BI44

Taking and Importing Marine Mammals; Taking Marine Mammals Incidental to U.S. Air Force Launches and Operations at Vandenberg Air Force Base, California

AGENCY: National Marine Fisheries Service (NMFS), National Oceanic and Atmospheric Administration (NOAA), Commerce.

ACTION: Proposed rule; correction.

SUMMARY: Taking and Importing Marine Mammals; Taking Marine Mammals Incidental to U.S. Air Force Launches and Operations at Vandenberg Air Force Base (VADB), California. On January 24, 2019, we published a proposed rule to establish a framework under the authority of the MMPA to allow for the authorization of take of marine mammals incidental to operations at Vandenberg Air Force Base (VAFB). We published this proposed rule during the government shut-down, and incorrectly stated who made a certification under the Regulatory Flexibility Act (RFA). The proposed rule omitted a Department of Commerce (DOC) docket number and has been added after the part heading. Also, an incorrect FDMS docket number was inserted. This notification corrects these errors.

DATES: Comments and information must be received no later than February 22, 2019.

ADDRESSES: You may submit comments, identified by NOAA-NMFS-2019-0004, by any of the following methods:

• Electronic Submissions: Submit all electronic public comments via the Federal eRulemaking Portal, Go to www.regulations.gov/#!docketDetail;D=NOAA-NMFS-2019-0004, click the “Comment Now!” icon, complete the required fields, and enter or attach your comments. Alternately, electronic comments may be emailed to ITP.laws@noaa.gov.

• Mail: Submit comments to Jolie Harrison, Chief, Permits and Conservation Division, Office of Protected Resources, National Marine Fisheries Service, 1315 East-West Highway, Silver Spring, MD 20910-3225.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender may be publicly accessible. Do not submit Confidential Business Information or otherwise sensitive or protected information. NMFS will accept anonymous comments (enter “N/A” in the required fields if you wish to remain anonymous). Attachments to electronic comments will be accepted in Microsoft Word, Excel, or Adobe PDF file formats only.

FOR FURTHER INFORMATION CONTACT: Jordan Carduner, Office of Protected Resources, NMFS; phone: (301) 427-8401.

SUPPLEMENTARY INFORMATION:

Background

On January 24, 2019, we published a proposed rule (84 FR 321) to establish a framework under the authority of the MMPA (16 U.S.C. 1361 et seq.) to allow for the authorization of take of marine mammals incidental to launching space launch vehicles, intercontinental ballistic and small missiles, and aircraft and helicopter operations at VAFB. We published this proposed rule during the government shut-down, and incorrectly stated that the Chief Counsel for Regulation at the Department of Commerce certified to the Chief Counsel for Advocacy of the Small Business Administration that this proposed rule, if adopted, would not have a significant economic impact on a substantial number of small entities. Instead, it was the Office of General Counsel for the U.S. Department of Commerce that made such a certification when the rule published on January 24, 2019. The proposed rule (84 FR 321; January 24, 2019) omitted a Department of Commerce (DOC) docket number and has been added after the part heading. The proposed rule (84 FR 321; January 24, 2019) also listed an incorrect FDMS docket number; the FDMS docket number has been corrected in this notice (see ADDRESSES above).

Correction

In FR Doc 2019-00090; appearing on page 344 in the Federal Register of Thursday, January 23, 2019, in the first column under the heading Classification; in the second paragraph, the first line is corrected to read as follows:

“Pursuant to section 605(b) of the Regulatory Flexibility Act (RFA), the Office of General Counsel for the U.S. Department of Commerce has certified to the Chief Counsel for Advocacy of the Small Business Administration that this proposed rule, if adopted, would not have a significant economic impact on a substantial number of small entities.”

Authority: 16 U.S.C. 1361 et seq.

Dated: February 5, 2019.
Samuel D. Rauch, III,
Deputy Assistant Administrator for Regulatory Programs, National Marine Fisheries Service.

[FR Doc. 2019-01807 Filed 2-8-19; 8:45 am]

BILLING CODE 3510-22-P